FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than July 30, 2013.

A. Federal Reserve Bank of Chicago (Colette A. Fried, Assistant Vice President) 230 South LaSalle Street, Chicago, Illinois 60690-1414:

1. Gregory F. Steil, Hinsdale, Illinois; to retain voting shares of LWCBancorp, Inc., New Lenox, Illinois, and thereby indirectly retain voting shares of LincolnWay Community Bank, New Lenox, Illinois.

B. Federal Reserve Bank of Minneapolis (Jacqueline G. King, Community Affairs Officer) 90 Hennepin Avenue, Minneapolis, Minnesota 55480-0291:

1. Barbara Carlson, Sauk Centre, Minnesota, individually; Sarah Beuning, Springfield, Illinois, Steven Beuning, Edina, Minnesota, Eric Beuning, Scott Beuning, and Tyler Carlson, all of Sauk Centre, Minnesota, as members of the Carlson/Beuning family shareholder group; Mary Jeanne Woodward, Sartell, Minnesota, Lisa DuBois Schmitze and John DuBois, both of Sauk Centre, Minnesota, as members of the Margaret DuBois Family Sharesholder group; to retain voting shares of DuBois Bankshares, Inc., and thereby indirectly retain voting shares of First State Bank of Sauk Centre, both in Sauk Centre, Minnesota.

Board of Governors of the Federal Reserve System, July 10, 2013.
Michael J. Lewandowski,
Associate Secretary of the Board.

[FR Doc. 2013-16923 Filed 7-15-13; 8:45 am]

BILLING CODE 6210-01-P